DEPARTMENT OF ENERGY

Federal Energy Regulatory Commission

Notice of Compliance Filings

| Docket Nos.
Northwestern Corporation (South Dakota) | ER13-62-000
PacificCorp | ER13-64-000
Deseret Generation & Transmission Cooperative, Inc. | ER13-65-000
Northwestern Corporation (Montana) | ER13-67-000
Portland General Electric Company | ER13-68-000
Public Service Company of Colorado | ER13-75-000
Terra-Gen Dixie Valley, LLC | ER13-76-000
Tucson Electric Power Company | ER13-77-000
UNS Electric, Inc. | ER13-78-000
Public Service Company of New Mexico | ER13-79-000
Tampa Electric Company | ER13-80-000
Arizona Public Service Company | ER13-82-000
Duke Energy Carolinas LLC | ER13-83-000
Carolina Power & Light Company
Cleco Power LLC | ER13-84-000
Maine Public Service Company | ER13-85-000
Florida Power Corporation | ER13-86-000
San Diego Gas & Electric Company | ER13-87-000
Alcoa Power Generating, Inc. (Yadkin Division) | ER13-88-000
MidAmerican Energy Company | ER13-89-000
El Paso Electric Company | ER13-91-000
Avista Corporation | ER13-93-000
Avista Corporation | ER13-94-000
Entergy Arkansas, Inc. | ER13-95-000
Black Hills Power, Inc. | ER13-96-000
Basin Electric Power Cooperative
Powder River Electric Cooperative
Black Hills Colorado Electric Utility Company | ER13-97-000
Puget Sound Energy, Inc. | ER13-99-000
Kansas City Power & Light Company | ER13-100-000
KCP&L Greater Missouri Operations Company
American Transmission Company | ER13-101-000
New York Independent System Operator, Inc. | ER13-102-000
California Independent System Operator Corporation | ER13-103-000
Florida Power & Light Company | ER13-104-000
NV Energy, Inc | ER13-105-000
South Carolina Electric & Gas Company | ER13-107-000
| ER13-107-001
Alcoa Power Generating, Inc. (Long Sault Division) | ER13-108-000
Cheyenne Light, Fuel and Power Company | ER13-120-000
Idaho Power Company | ER13-127-000
Bonneville Power Administration | NJ13-1-000
Orlando Utilities Commission | NJ13-2-000

Take notice that on October 10, 2012, October 11, 2012, and October 12, 2012, Northwestern Corporation (South Dakota), PacificCorp, Deseret Generation & Transmission Cooperative, Inc., Northwestern Corporation (Montana), Portland General Electric Company, Public Service Company of Colorado, Terra-Gen Dixie Valley, LLC, Tucson Electric Power Company, UNS Electric, Inc., Public Service Company of New Mexico, Tampa Electric Company, Arizona Public Service Company, Duke Energy Carolinas LLC, Carolina Power & Light Company, Cleco Power LLC, Maine Public Service Company, Florida Power Corporation, San Diego Gas & Electric Company, Alcoa Power Generating, Inc. (Yadkin Division), MidAmerican Energy Company, El Paso Electric Company, Avista Corporation, Entergy Arkansas, Inc., Black Hills Power, Inc., Basin Electric Power Cooperative, Powder River Electric Cooperative, Black Hills Colorado Electric Utility Company, Puget Sound Energy, Inc., Kansas City Power & Light Company, KCP&L Greater Missouri Operations Company, American Transmission Company, New York Independent System Operator, Inc., California Independent System Operator Corporation, Florida Power & Light Company, NV Energy, Inc, South Carolina Electric & Gas Company, Alcoa Power Generating, Inc. (Long Sault Division), Cheyenne Light, Fuel and Power Company, Idaho Power Company, Bonneville Power Administration, and Orlando Utilities Commission, submitted filings to comply with the requirements of Order Nos. 1000 and 1000-A.¹

¹ Transmission Planning and Cost Allocation by Transmission Owning and Operating Public Utilities, Order No. 1000, 76 FR 49,842 (Aug. 11, 2011), FERC Stats. & Regs. ¶ 31,323 (2011), order on reh'g, Order No. 1000-A, 77 FR 32,184 (May 31, 2012), 139 FERC ¶ 61,132 (2012).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 9, 2012. ²

² This notice is not being issued in response to any motion for extension of time for the submission of interventions or protests. Specific motions for extension of time will be addressed separately.

Dated: October 15, 2012.
Kimberly D. Bose,
Secretary.

[FR Doc. 2012-25815 Filed 10-19-12; 8:45 am]

BILLING CODE 6717-01-P